DEPARTMENT OF DEFENSE

Department of the Air Force

Notice of Intent To Perform an Environmental Analysis for the Proposed Beddown of the Global Hawk Remote Operated Aircraft System

The United States Air Force will conduct an environmental analysis to determine the potential environmental impacts of bedding down the unmanned aerial vehicle, Global Hawk, at a main operating base (MOB). This proposal involves locating up to 60 high altitude endurance unmanned aerial vehicles, associated equipment and up to approximately 800 personnel at an Air Force base within the continental United States. The beddown will start with an initial cadre of four to six aircraft the first year, building to the total number with a delivery schedule of two to four aircraft per year. The proposal includes construction of support facilities and use of airspace in the local region. The Federal Aviation Administration has been invited to participate as a cooperating agency in this environmental analysis.

Five Air Force bases are being considered as potential beddown locations: (1) Edwards Air Force Base (AFB), California, (2) Beale AFB, California; (3) Tinker AFB, Oklahoma; (4) Ellsworth AFB, South Dakota; and (5) Wright-Patterson AFB, Ohio. In addition, the Air Force will analyze the no-action alternative, which considers potential environmental impacts should the Air Force decide not to beddown the Global Hawk System.

The Air Force will conduct a series of scoping meetings to solicit public input concerning the proposal. The scoping process will help identify issues to be addressed in the environmental analysis. In addition to the comments received at the scoping meetings, written comments on the scope of the environmental analysis will be accepted by the Air Force at the address below through June 30, 2000. The Air Force will accept appropriate comments at any time during the environmental analysis process.

If during the preparation of the environmental analysis, it is determined that an Environmental Impact Statement (EIS) is warranted, comments received during this scoping period will be considered in the EIS preparation.

Scoping meetings will be held at the following locations:

Wright Patterson AFB, OH: June 19, 6:00 p.m. Fairborn High School, 900 E. Dayton-Yellow Springs Road, Fairborn, OH 45324, Cafeteria

Tinker AFB, OK: June 21, 6:00 p.m., Huey Long Community Center, 4505 SE 15th St., Del City, Oklahoma, Community Hall

Ellsworth AFB, SD: June 23, 6:00 p.m., Ramokota Inn and Conference Center, 2111 N. LaCrosse St., Rapid City, South Dakota, Sylvan Room

Edwards AFB, CA: June 26, 6:00 p.m., Best Western, Antelope Valley Inn, 44055 N. Sierra Hwy, Lancaster, CA 93534, Convention Center, East Wing

Beale AFB, CA: June 27, 6:00 p.m., Sutter Count Library, 750 Forbes Avenue, Yuba City, CA 95991, the Meeting Room.

Please direct any written comments or requests for information to Ms. Sheryl Parker, HQ ACC/CEVP, 129 Andrews St., Suite 102, Langley AFB, VA 23665-2769, (757) 764-9334.

Janet A. Long,
Air Force Federal Register Liaison Officer.

[FR Doc. 00-13950 Filed 6-2-00; 8:45 am]

BILLING CODE 5001-05-U